DEPARTMENT OF LABOR

Employment and Training Administration

Announcement of Public Briefings on Using Redesigned Labor Certification Forms and Stakeholder Meeting

AGENCY: Employment and Training Administration, Labor.

ACTION: Notice.

SUMMARY: The Office of Foreign Labor Certification (OFLC) in the Department of Labor's Employment & Training Administration (ETA) has been re-engineering several of its program forms to improve the information it collects from the public. These changes are intended to improve the application to and day-to-day operation of OFLC programs. The system re-engineering will impact the program for the Temporary Employment of Nonimmigrants in Professional, Specialty Occupations, and as Fashion Models (H-1B, H-1B1, and E-3). The Form ETA 9035, the Labor Condition Application (OMB control number 1205-0310) used for the H-1B, H-1B1, and E-3 programs, was redesigned and submitted for public comment, 73 FR 36357, Jun. 26, 2008, and for review by the Office of Management and Budget (OMB), 73 FR 66259, Nov. 7, 2008. In addition, the Permanent Labor Certification Program (PERM), OFLC will be implementing changes to the electronic filing process and is implementing a revised application form. The redesigned Form ETA 9089 (OMB control number 1205-451) has been approved by OMB subject to review of the final electronic version.

ETA is issuing this notice to announce that OFLC will offer two public briefings to educate stakeholders, program users, and other interested members of the public on using the re-engineered 9035 and 9089 application forms, and the online portal system by which most users file program applications.

ETA will also hold a stakeholder meeting in San Diego, California on February 3, 2009.

As currently planned, the two briefings will take place in February, 2009 in San Diego and Baltimore, Maryland. This notice provides the public with locations, dates, and registration information regarding the briefings.

FOR FURTHER INFORMATION CONTACT: William L. Carlson, Ph.D., Administrator, Office of Foreign Labor Certification, Employment and Training Administration, 200 Constitution Avenue, NW., Room C-4312, Washington, DC 20210; Telephone: (202) 693-3010 (this is not a toll-free number).

SUPPLEMENTARY INFORMATION: The following registration information should be used by any member of the public planning to attend any of the briefing sessions.

San Diego: February 4, 2009.

Time: 9:30 a.m. to 12:30 p.m.

PERM Update (changes to electronic filing and new application form) and H-1B LCA Form 9035.

Location: Manchester Grand Hyatt, One Market Place, San Diego, California 92101

Washington, DC: February 9, 2009.

Time: 9:30 a.m. to 12:30 p.m.

PERM Update (changes to electronic filing and new application form) and H-1B LCA Form 9035.

Location: Baltimore Marriott Inner Harbor at Camden Yards, 110 South Eutaw Street, Baltimore, MD 21202.

Registration: To register for one of the briefings listed above, please use the following information. To complete the registration process on-line, please visit http://www.dtiassociates.com/oflcbriefings. For questions regarding the registration process, please call (703) 299-1623 (this is not a toll-free number). Due to space considerations, attendance will be limited to those who register on-line.

Signed in Washington, DC, this 9th day of January 2009.
Brent R. Orrell,
Deputy Assistant Secretary, Employment and Training Administration.

[FR Doc. E9-678 Filed 1-14-09; 8:45 am]

BILLING CODE 4510-FP-P